DEPARTMENT OF ENERGY

Federal Energy Regulatory Commission

[Docket No. EL14-12-000]

Association of Businesses Advocating Tariff Equity, Coalition of Miso Transmission Customers, Illinois Industrial Energy Consumers, Indiana Industrial Energy Consumers, Inc., Minnesota Large Industrial Group, Wisconsin Industrial Energy Group, v. Midcontinent Independent System Operator, Inc., ALLETE, Inc., Ameren Illinois Company, Ameren Missouri, Ameren Transmission Company of Illinois, American Transmission Company LLC, Cleco Power LLC, Duke Energy Business Services, LLC, Entergy Arkansas, Inc., Entergy Gulf States Louisiana, LLC, Entergy Louisiana, LLC, Entergy Mississippi, Inc., Entergy New Orleans, Inc., Entergy Texas, Inc., Indianapolis Power & Light Company, International Transmission Company, ITC Midwest LLC, Michigan Electric Transmission Company, LLC, MidAmerican Energy Company, Montana-Dakota Utilities Co., Northern Indiana Public Service Company, Northern States Power Company—Minnesota, Northern States Power Company—Wisconsin, Otter Tail Power Company, Southern Indiana Gas & Electric Company; Notice of Complaint

Take notice that on November 12, 2013, pursuant to section 206 of the Federal Power Act (FPA), 16 U.S.C. 824e and Rule 206 of the Federal Energy Regulatory Commission's (Commission) Rules of Practice and Procedure, 18 CFR 385.206 (2013), Association of Businesses Advocating Tariff Equity, Coalition of Miso Transmission Customers, Illinois Industrial Energy Consumers, Indiana Industrial Energy Consumers, Inc., Minnesota Large Industrial Group, Wisconsin Industrial Energy Group (collectively, Complainants) filed a formal complaint against Midcontinent Independent System Operator, Inc. (MISO), ALLETE, Inc., Ameren Illinois Company, Ameren Missouri, Ameren Transmission Company of Illinois, American Transmission Company LLC, Cleco Power LLC, Duke Energy Business Services, LLC, Entergy Arkansas, Inc., Entergy Gulf States Louisiana, LLC, Entergy Louisiana, LLC, Entergy Mississippi, Inc., Entergy New Orleans, Inc., Entergy Texas, Inc., Indianapolis Power & Light Company, International Transmission Company, ITC Midwest LLC (ITC), Michigan Electric Transmission Company, LLC (METC), MidAmerican Energy Company, Montana-Dakota Utilities Co., Northern Indiana Public Service Company, Northern States Power Company—Minnesota, Northern States Power Company—Wisconsin, Otter Tail Power Company, Southern Indiana Gas & Electric Company (collectively, Respondents) requesting that the Commission (1) find that the existing 12.38/12.2 percent Base ROEs (return on equity) are no longer just and reasonable, and that the Base ROE proposed collectively by the Complainants is just and reasonable; (2) find that capital structures with greater than 50 percent equity are no longer just and reasonable and direct any MISO Transmission Owners (MISO TOs) with a higher percentage equity to submit compliance filings containing capital structures consistent with the revisions proposed in this complaint; (3) find that the ROE incentive adders applied by ITC and METC are no longer just and reasonable and direct ITC and METC to submit compliance filings to remove the ROE adders from their formula rates; (4) establish the filing date of this complaint as the refund effective date; and (5) direct the MISO TOs to make tariff filings to change the stated Base ROE value to a just and reasonable Base ROE, as more fully explained in the complaint.

The Complainants state that copies of the complaint were served on the Respondents.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on December 2, 2013.

Dated: November 13, 2013.
Kimberly D. Bose,
Secretary.

[FR Doc. 2013-27744 Filed 11-19-13; 8:45 am]

BILLING CODE 6717-01-P